DEPARTMENT OF TRANSPORTATION

Surface Transportation Board

[Docket No. FD 35386]

R.J. Corman Railroad Company/Central Kentucky Lines, LLC—Trackage Rights Exemption—CSX Transportation, Inc.

Pursuant to a written supplemental agreement dated July 28, 2010, CSX Transportation, Inc. (CSXT) has agreed to grant additional limited overhead trackage rights ¹ to R.J. Corman Railroad Company/Central Kentucky Lines, LLC (RJCC) over a CSXT line of railroad extending between (1) milepost 00T 12.5 at HK Tower and milepost 00T 2.6 at Frankfort Avenue; and (2) milepost 00T 2.6 at Frankfort Avenue and milepost 000 6.4 at Osborne Yard in the vicinity of Big Ditch, all in the vicinity of Louisville, Ky., a distance of approximately 17 miles.²

¹ The original rights were obtained by R.J. Corman Railroad Property, LLC (RJCP) as incidental trackage rights to a lease of another line exempted under 49 CFR § 1150.41 in R.J. Corman Railroad Property, LLC—Lease Exemption—Line of CSX Transportation, Inc., FD 34625 (STB served Mar. 4, 2005). RJCP assigned the trackage rights to RJCC, its corporate affiliate. The assignment was exempted under 49 CFR § 1150.41 in R.J. Corman Railroad/Central Kentucky Lines, LLC—Acquisition and Operation Exemption—Line of R.J. Corman Railroad Property, LLC, FD 34624 (STB served Feb. 23, 2005). In 2008, the parties' limited overhead trackage rights agreement was modified to allow RJCC to move carloads of cement and general merchandise between specified points in Kentucky. See R.J.Corman R.R./Cent. Ky. Lines, LLC—Trackage Rights Exemption—CSX Transp., Inc., FD 35124, (STB served Apr. 10, 2008).

² Applicant states that the earlier notices of exemption (FD 34624, FD 34625, and FD 35124) referred to the HK Tower being located at milepost 12.49. In this notice, it is referred to as being located at milepost 12.5, but applicant explains that it is in the same location as before.

The transaction may be consummated on or after September 10, 2010, the effective date of the exemption (30 days after the exemption is filed). The purpose of the amended trackage rights agreement is to allow RJCC to move ties, ballast and other track material efficiently in coordination with the movement of its aluminum unit trains.

As a condition to this exemption, any employees affected by the trackage rights will be protected by the conditions imposed in Norfolk and Western Railway—Trackage Rights—Burlington Northern, Inc., 354 I.C.C. 605 (1978), as modified in Mendocino Coast Railway—Lease and Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by September 3, 2010 (at least 7 days before the exemption becomes effective).

An original and 10 copies of all pleadings, referring to Docket No. FD 35386, must be filed with the Surface Transportation Board, 395 E Street, SW., Washington, DC 20423-0001. In addition, a copy of each pleading must be served on Michael J. Barron, Jr., Fletcher & Sippel LLC, 29 North Wacker Drive, Suite 920, Chicago, IL 60606.

Board decisions and notices are available on our Web site at http://www.stb.dot.gov.

Decided: August 23, 2010.
By the Board, Rachel D. Campbell, Director, Office of Proceedings.
Kulunie L. Cannon,
Clearance Clerk.

[FR Doc. 2010-21330 Filed 8-26-10; 8:45 am]

BILLING CODE 4915-01-P